DEPARTMENT OF COMMERCE

National Oceanic and Atmospheric Administration

RIN 0648-XA457

Fisheries of the Caribbean, Gulf of Mexico, and South Atlantic; Shrimp Fisheries of the Gulf of Mexico and Southern Atlantic States

AGENCY: National Marine Fisheries Service (NMFS), National Oceanic and Atmospheric Administration (NOAA), Commerce.

ACTION: Notice of receipt of an application for an exempted fishing permit; request for comments.

SUMMARY: NMFS announces the receipt of an application for an exempted fishing permit (EFP) from the Gulf and South Atlantic Fisheries Foundation, Inc. (Foundation). If granted, the EFP would authorize the applicant, with certain conditions, to collect and retain limited numbers of specimens that would otherwise be prohibited from possession and retention. This study, to be conducted in the exclusive economic zone (EEZ) of the Gulf of Mexico (Gulf) and South Atlantic, is intended to characterize catch and bycatch within the shrimp fisheries of the Gulf and South Atlantic.

DATES: Comments must be received no later than 5 p.m., eastern time, on July 15, 2011.

ADDRESSES: You may submit comments on the application by any of the following methods:

• E-mail: Steve.Branstetter@noaa.gov. Include in the subject line of the e-mail comment the following document identifier: “FND_EFP”.

• Mail: Steve Branstetter, Southeast Regional Office, NMFS, 263 13th Avenue South, St. Petersburg, FL 33701.

The application and related documents are available for review upon written request to any of the above addresses.

FOR FURTHER INFORMATION CONTACT: Steve Branstetter, 727-824-5305; e-mail: Steve.Branstetter@noaa.gov.

SUPPLEMENTARY INFORMATION: The EFP is requested under the authority of the Magnuson-Stevens Fishery Conservation and Management Act (16 U.S.C. 1801 et seq.), and regulations at 50 CFR 600.745(b) concerning exempted fishing.

The applicant proposes research as part of the Cooperative Research Program, which is intended to involve commercial fishermen in the collection of fundamental fisheries information. The described research is part of three ongoing Cooperative Agreements (No. NA08NMF4330406, No. NA09NMF4540135, and No. NA10NMF4540108), plus two pending Cooperative Research Program projects. Resource collection efforts support the development and evaluation of fisheries management and regulatory options.

The proposed collection for scientific research involves activities otherwise prohibited by regulations at 50 CFR part 622, as they pertain to fish and invertebrates managed by the Gulf of Mexico and South Atlantic Fishery Management Councils (Councils) specific to the shrimp fisheries of the Gulf and South Atlantic. The applicant requires authorization through the EFP to collect these Council-managed species that may be taken in association with the commercial shrimp fisheries of the southeast United States. This proposed collection would include reef fish, red drum, coastal migratory pelagics, stone crab, and lobsters in the Gulf, and snapper-grouper, coastal migratory pelagics, dolphin and wahoo, and lobsters in the South Atlantic.

The EFP exempts personnel from the Foundation from bag limits, size limits, quotas, seasonal restrictions, and gear authorizations, when possessing Council-managed species as part of scientific research activities from August 1, 2011, through December 31, 2013. Specimens would be collected from Federal waters of the Gulf and South Atlantic, and sampling would occur during normal fishing operations of the trawl gear component of the penaeid shrimp commercial sector. Sampling would occur year-round, collecting as many as 500 fish during the course of the study. These species would be retained only in the event of the need for subsequent shore-side identification or as documentation of quality assurance in the data collection process. Data collection for this study would support improved information about the catch, bycatch, discards, and the ability to reduce bycatch for species taken by the shrimp fisheries of the Gulf and South Atlantic. These data would provide insight on a stock's resilience to fishing, and would help improve estimates of long-term biological productivity of the stocks. Currently, these data are unavailable, and it is anticipated that project results will yield valuable data within these fisheries.

NMFS finds this application warrants further consideration. Based on a preliminary review, NMFS intends to issue an EFP. The limited sampling program and associated methodology listed in the EFP is not expected to impact the fishery stocks; the estimated 500 fish to be retained through the duration of the EFP represents a small fraction of average annual landings.

Conditions the agency will impose on this permit, if it is indeed granted, include but are not limited to, a prohibition of conducting research within marine protected areas, marine sanctuaries, or special management zones, without additional authorization. Additionally, NMFS will prohibit the possession of Nassau or goliath grouper, and require any sea turtles taken incidentally during the course of fishing or scientific research activities to be handled with due care to prevent injury to live specimens, observed for activity, and returned to the water. All Foundation-associated personnel who conduct onboard sampling activities have undergone formal sea turtle handling training through NMFS, and are considered NMFS-designated agents while conducting work under the identified Cooperative Agreements.

A final decision on issuance of the EFP will depend on a NMFS review of public comments received on the application, consultations with the affected states, the Councils, and the U.S. Coast Guard, and a determination that the EFP is consistent with all applicable laws.

Authority: 16 U.S.C. 1801 et seq.

Dated: June 13, 2011.
Margo Schulze-Haugen,
Acting Director, Office of Sustainable Fisheries, National Marine Fisheries Service.

[FR Doc. 2011-15162 Filed 6-16-11; 8:45 am]

BILLING CODE 3510-22-P